DEPARTMENT OF THE INTERIOR

Bureau of Land Management

[18X.LLAK930000 L131000.DP0000]

Notice of Availability of the Final Environmental Impact Statement for the Coastal Plain Oil and Gas Leasing Program, Alaska

AGENCY: Bureau of Land Management, Interior

ACTION: Notice of availability.

SUMMARY: The Bureau of Land Management (BLM), Alaska State Office, is issuing the Final Environmental Impact Statement (EIS) for the Coastal Plain Oil and Gas Leasing Program in accordance with the Tax Cuts and Jobs Act of 2017, and the National Environmental Policy Act of 1969, as amended (NEPA), and in a manner similar to the administration of lease sales under the Naval Petroleum Reserves Production Act of 1976, as amended.

DATES: The Final EIS is available to the public. After 30 days, the BLM can issue a Record of Decision (ROD).

ADDRESSES: Requests for information regarding the Final EIS may be mailed to: Coastal Plain Oil and Gas Leasing Program EIS, Attn: Nicole Hayes, 222 West 7th Avenue, #13 Anchorage, AK 99513-7504. The Final EIS is available on the BLM Alaska website at https://www.blm.gov/alaska/Coastal-Plain-EIS or at the BLM Alaska State Office, BLM Alaska Public Information Center, 222 West 7th Avenue, Anchorage, Alaska 99513.

FOR FURTHER INFORMATION CONTACT: Nicole Hayes, BLM Alaska State Office, telephone: 907-271-4354; email: blm_ak_coastalplain_EIS@blm.gov; or by mail: Bureau of Land Management, 222 West 7th Avenue, #13, Anchorage, Alaska 99513-7599. Persons who use a telecommunications device for the deaf (TDD) may call the Federal Relay Service (FRS) at 1-800-877-8339 to contact Ms. Hayes during normal business hours. FRS is available 24 hours a day, 7 days a week, to leave a message or question. You will receive a reply during normal business hours.

SUPPLEMENTARY INFORMATION: The Coastal Plain Oil and Gas Leasing Final Leasing Program EIS analyzes implementing an oil and gas leasing program in accordance with Section 20001 of the Tax Cuts and Jobs Act of 2017, Public Law 115-97 (Dec. 22, 2017) ( Pub. L. 115-97), and the National Environmental Policy Act of 1969, as amended, and in a manner similar to the administration of lease sales under the Naval Petroleum Reserves Production Act of 1976, as amended. The Leasing EIS analyzes the potential environmental impacts of various leasing alternatives, including the areas to offer for sale, and the terms and conditions (i.e., lease stipulations and required operating procedures) to be applied to leases and associated potential future oil and gas activities, to properly balance oil and gas development with existing uses and protection of surface resources. The lands comprising the Coastal Plain include approximately 1.6 million acres within the approximately 19.3 million-acre Arctic National Wildlife Refuge. The Final EIS will result in a ROD that will approve an oil and gas leasing program in the Coastal Plain of the Arctic National Wildlife Refuge, consistent with the direction provided in PL 115-97. The Draft EIS, published in December 2018, did not identify a Preferred Alternative, because the BLM did not have one at that time. The Final EIS identifies Alternative B as the BLM's Preferred Alternative.

In developing the preferred alternative, the BLM worked with interested parties to identify the management decisions best suited to local, regional, and national needs and concerns, in developing the preferred alternative consistent with the following criteria:

• Under Public Law 115-97, hold not fewer than two lease sales, each to include not fewer than 400,000 acres area-wide, prioritizing the areas with the highest potential for hydrocarbons;

• Consider all available Federal lands and waters within the Coastal Plain;

• Consider all five purposes of the Arctic National Wildlife Refuge;

• Address oil and gas leasing issues identified during scoping;

• Consider subsistence resources and users, as well as potential actions to minimize adverse impacts to subsistence in accordance with section 810 of the Alaska National Interest Lands Conservation Act (ANILCA); and

• Consider current surface management of the Coastal Plain.

Upon completion of a Final EIS and ROD, the BLM intends to conduct lease sales in accordance with Public Law 115-97.

Future on-the-ground actions requiring BLM approval, including proposed seismic and exploration plans or development proposals, would require further NEPA analysis based on specific and detailed information about where and what kind of activity is proposed. Additional site-specific terms and conditions may be required by the Authorized Officer prior to authorizing any oil and gas activity.

Chad B. Padgett,
State Director, Alaska.

[FR Doc. 2019-20832 Filed 9-24-19; 8:45 am]

BILLING CODE 4310-JA-P